ENVIRONMENTAL PROTECTION AGENCY

[EPA-HQ-OPA-2007-0584; FRL-9946-46-OEI]

Information Collection Request Submitted to OMB for Review and Approval; Comment Request; Spill Prevention, Control, and Countermeasure (SPCC) Plans (Renewal)

AGENCY: Environmental Protection Agency (EPA).

ACTION: Notice.

SUMMARY: The Environmental Protection Agency has submitted an information collection request (ICR), “Spill Prevention, Control, and Countermeasure (SPCC) Plans (Renewal)” (EPA ICR No. 0328.17, OMB Control No. 2050-0021) to the Office of Management and Budget (OMB) for review and approval in accordance with the Paperwork Reduction Act (44 U.S.C. 3501 et seq.). This is a proposed extension of the ICR, which is currently approved through May 31, 2016. Public comments were previously requested via the Federal Register (81 FR 1625) on January 13, 2016, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 20, 2016.

ADDRESSES: Submit your comments, referencing Docket ID Number EPA-HQ-OPA-2007-0584, to (1) EPA online using www.regulations.gov (our preferred method), by email to superfund.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Alan Tarrab, Regulations Implementation Division, Office of Emergency Management, Mail Code 5104A, Environmental Protection Agency, 1200 Pennsylvania Ave. NW., Washington, DC 20460; telephone number: 202-564-0206; email address: tarrab.alan@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The authority for EPA's oil pollution prevention requirements is derived from section 311(j)(1)(C) of the Clean Water Act, as amended by the Oil Pollution Act of 1990. EPA's regulation is codified at 40 CFR part 112. An SPCC Plan will help an owner or operator identify the necessary procedures, equipment, and resources to prevent an oil spill and to respond to an oil spill in a timely manner. If implemented effectively, the SPCC Plan is expected to prevent oil spills and reduce the impact and severity of oil spills. Although the owner or operator is the primary data user, EPA may also require the owner or operator to submit data to the Agency in certain situations to ensure facilities comply with the SPCC regulation and to help allocate response resources. State and local governments may use the data, which are not generally available elsewhere and can assist local emergency preparedness planning efforts. EPA does not require an owner or operator to submit SPCC Plans, but may request the SPCC Plan during a facility inspection or an oil spill incident for review. The SPCC regulation requires the owner or operator maintain a complete copy of the Plan at the facility if the facility is normally attended at least four hours per day or at the nearest field office if the facility is not so attended. The rule also requires that the Plan be available to the Regional Administrator for on-site review during normal working hours (40 CFR 112.3(e)). The supporting statement further explains SPCC Plan Preparation, Certification, and Maintenance, as well as Recordkeeping requirements.

Form Numbers: None.

Respondents/affected entities: Private and state owners or operators of regulated facilities.

Respondent's obligation to respond: Mandatory, pursuant to 40 CFR 112.3(e).

Estimated number of respondents: 542,100 (total).

Frequency of response: Once.

Total estimated burden: 6,180,110 hours (per year). Burden is defined at 5 CFR 1320.03(b).

Total estimated cost: $797,257,493 (per year), includes $183,160,295 annualized capital or operation & maintenance costs.

Changes in the Estimates: There is a decrease of 2,618,818 hours in the total estimated respondent burden compared with the ICR currently approved by OMB. This decrease is primarily due to change in industry sizes, assumptions regarding the methodology for reviewing and revising Tier I facility plans, and exemption of certain farms under section 1049 of the Water Resources Reform and Development Act of 2014.

Courtney Kerwin,
Acting Director, Collection Strategies Division.

[FR Doc. 2016-11765 Filed 5-18-16; 8:45 am]

BILLING CODE 6560-50-P